DEPARTMENT OF HEALTH AND HUMAN SERVICES

Centers for Disease Control and Prevention

[60Day-23-23GC; Docket No. CDC-2023-0049]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of Government information, invites the general public and other Federal agencies the opportunity to comment on a proposed information collection, as required by the Paperwork Reduction Act of 1995. This notice invites comment on a proposed information collection project titled NCEZID Rapid Message Testing & Development System. This collection will enable the National Center for Emerging and Zoonotic Infectious Diseases (NCEZID) to test health messages and gather information to inform the development of health messages.

DATES: CDC must receive written comments on or before August 15, 2023.

ADDRESSES: You may submit comments, identified by Docket No. CDC-2023-0049 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

NCEZID Rapid Message Testing & Development System—New—National Center for Emerging and Zoonotic Infectious Diseases (NCEZID), Centers for Disease Control and Prevention (CDC).

Background and Brief Description

CDC's National Center for Emerging and Zoonotic Infectious Diseases (NCEZID) offers numerous powerful resources to anticipate, prevent, and address outbreaks of infectious diseases. From researchers to emergency responders; from laboratories to surveillance of mobile populations; from collaborations at the Federal level to partnerships at the local level, NCEZID keeps people safe from threats like anthrax, Ebola virus, Zika virus, sepsis, mpox, and foodborne illnesses like Salmonella. These efforts are vital to protect and save lives.

The ability to effectively communicate with the public about these threats is one of NCEZID's most vital roles. Particularly during an outbreak, it is critical that the public understands what is happening and why, and trusts and follows public health leaders' guidance. Recent public health responses to COVID-19 and mpox have underscored the need to improve the speed and content of health communications, particularly among populations at higher risk for zoonotic and infectious diseases. This Rapid Message Testing & Message Development System will enable NCEZID to collect information vital to the development of clear, salient, relevant, appealing, and persuasive messages related to outbreaks and other emerging and zoonotic diseases via a Generic mechanism. The Rapid Message Testing & Message Development System will also allow for the relatively rapid testing of messages when the need arises within the Center, prior to the dissemination of those messages and associated communications materials. The data collection is intended to ensure NCEZID messages are appropriate to target audiences. Data will guide revisions to existing or draft messages, inform the development of new messages, and otherwise enable message developers to make optimal decisions about message content, format, and dissemination so that NCEZID's messages effectively reach and resonate with their intended audiences. Proposed data collection methods include in-depth interviews, online or in-person focus groups, and online surveys.

CDC requests OMB approval for an estimated 2,615 annual burden hours. There are no costs to respondents other than their time to participate.

Estimated Annualized Burden Hours
Type of respondents | Form name | Number of respondents | Number of responses per respondent | Average burden per response (in hours) | Total burden (in hours)
Online surveys (general public) | Content question bank | 10,000 | 1 | 10/60 | 1,667
Online in-depth interview screening (healthcare and specialty audiences) | Screening question bank | 720 | 1 | 5/60 | 60
Online in-depth interviews (healthcare and specialty audiences) | Content question bank | 72 | 1 | 1 | 72
Online focus group screening (general public) | Screening question bank | 1,440 | 1 | 5/60 | 120
Online focus groups (general public) | Content question bank | 144 | 1 | 2 | 288
Online focus group screening (healthcare and specialty audiences) | Screening question bank | 1,440 | 1 | 5/60 | 120
Online focus groups (healthcare and specialty audiences) | Content question bank | 144 | 1 | 2 | 288
Total |  |  |  |  | 2,615

Jeffrey M. Zirger,
Lead, Information Collection Review Office, Office of Public Health Ethics and Regulations, Office of Science, Centers for Disease Control and Prevention.

[FR Doc. 2023-12939 Filed 6-15-23; 8:45 am]

BILLING CODE 4163-18-P